DEPARTMENT OF COMMERCE

Economic Development Administration

[Docket No. 100614264-0264-01]

Solicitation of Applications for the Research and Evaluation Program: FY 2010 Triple Bottom Line Accounting Competition—A Method for Identifying Impacts of Economic Development Initiatives on Regional Economies

AGENCY: Economic Development Administration, Department of Commerce.

ACTION: Notice and request for applications.

SUMMARY: Pursuant to the Research and Evaluation program, the Economic Development Administration (EDA) seeks applications to research, develop, and disseminate metrics to enable policymakers and practitioners to more effectively understand how to assess the triple bottom line (economic, environmental, and social impacts) of various economic development activities. EDA's mission is to lead the Federal economic development agenda by promoting innovation and competitiveness, preparing American regions for growth and success in the worldwide economy. Through its Research and Evaluation program, EDA works towards fulfilling its mission by funding research and technical assistance projects to promote competitiveness and innovation in distressed rural and urban regions throughout the United States and its territories. By working in conjunction with its research partners, EDA will help States, local governments, and community-based organizations to achieve their highest economic potential.

DATES: To be considered timely, a completed application, regardless of the format in which it is submitted, must be either (a) transmitted and time-stamped at http://www.grants.gov no later than August 13, 2010, at 5 p.m. Eastern Time; or (b) received in the office or the e-mail inbox, as applicable, of the EDA representative listed under Application Submission Requirements no later than August 13, 2010, at 5 p.m. Eastern Time.

Application Submission Requirements: Applicants are advised to read carefully the instructions contained in section IV of the Federal funding opportunity (FFO) announcement for this notice and request for applications. For a copy of the FFO announcement, please see the Web sites listed below under Electronic Access.

Applications may be submitted (a) electronically or (b) in paper format. EDA will not accept facsimile transmissions of applications. The content of the application is the same for paper submissions as it is for electronic submissions. Applicants applying electronically may access the application package by following the instructions provided at http://www.grants.gov. Alternatively, you may obtain paper application packages by contacting the individual listed below under FOR FURTHER INFORMATION CONTACT.

Electronic Submissions: Applicants are strongly encouraged to submit applications electronically at http://www.grants.gov. The preferred electronic file format for attachments is portable document format (PDF); however, EDA will accept electronic files in Microsoft Word, WordPerfect, or Microsoft Excel. To take advantage of screen-fillable functionality, an applicant must download the application package from http://www.grants.gov and use the “Save As” function to save the application package to the applicant's computer.

To avoid delays, EDA strongly recommends that applicants start early and not wait until the approaching deadline before logging on, registering with http://www.grants.gov, reviewing the application instructions, and applying at http://www.grants.gov. Applicants must be registered users with http://www.grants.gov in order to apply; the registration process can take between three to five business days or as long as four weeks if all steps are not completed in a timely manner. Please register early. Applicants should save and print written proof of an electronic submission made at http://www.grants.gov. If problems occur, the applicant is advised to (a) print any error message received, and (b) call the http://www.grants.gov Contact Center at 1-800-518-4726 for assistance. The Contact Center is open 24 hours a day, 7 days a week (except for Federal holidays). The following link lists useful resources: http://www.grants.gov/help/help.jsp. If you do not find an answer to your question under “Applicant FAQs,” try consulting the “Applicant User Guide” or contacting http://www.grants.gov via email at support@grants.gov or telephone at 1-800-518-4726. In the event that http://www.grants.gov fails to function properly at the time of application submission, the applicant must retain the error message received and may e-mail a completed application to Hillary Sherman-Zelenka at HSherman@eda.doc.gov.

Paper Submissions: If submitting by paper, applicants must submit one original and two copies of the completed application package via postal mail, private delivery service, or hand-delivery to:

FY 2010 Triple Bottom Line Accounting Competition, Hillary Sherman-Zelenka, Program Analyst, Economic Development Administration, U.S. Department of Commerce, 1401 Constitution Avenue, NW., Room 7009, Washington, DC 20230.

Applicants are advised that, due to mail security measures, EDA's receipt of mail sent via the United States Postal Service may be substantially delayed or suspended in delivery. Applicants may wish to use a guaranteed overnight delivery service. Please note that overnight delivery packages are received in the Department of Commerce's mailroom before distribution to applicable bureaus, a process that can take approximately three to five business days. Accordingly, we recommend applicants mail applications a week ahead of the August 13, 2010, deadline in order take mail processing and distribution into consideration and avoid delays.

FOR FURTHER INFORMATION CONTACT: For additional information on the Research and Evaluation program or to obtain a paper application package for this notice, please contact Hillary Sherman-Zelenka via e-mail at HSherman@eda.doc.gov (preferred) or by telephone at (202) 482-3357. Additional information about EDA and its Research and Evaluation program may be obtained from EDA's Web site at http://www.eda.gov.

SUPPLEMENTARY INFORMATION: Background: Building on the concept of sustainable development introduced in the 1987 Bruntland Report, John Elkington coined the term “triple bottom line” in his 1994 article in the California Management Review where he articulated the concept of “win-win-win” business strategies. The article highlighted the limitations of focusing exclusively on traditional economic variables to determine the impact of industry actions on a regional economy. Rather than focusing exclusively on profits, Elkington argued, corporations also should consider the environmental and social implications of their actions¹.

¹ “Triple bottom line” accounting means expanding the traditional reporting framework to take into account environmental and social performance in addition to economic performance.

With the increased focus on sustainable economic development over the past several years, the triple bottom line concept has been adopted by a wide array of firms. Companies like Patagonia, General Electric, and Pepsi have successfully implemented triple bottom line accounting into their business models.

While the triple bottom line concept is becoming an increasingly common formula for corporations to utilize to assess their bottom line, it is rarely utilized by local jurisdictions to determine the impact economic development efforts have on a region. Instead, most economic development efforts are exclusively evaluated based on the impact that the initiative will have on the local tax base and the number of jobs that will be created. While these are undoubtedly important considerations, local decision-makers also should consider a range of other factors, such as whether the project will contribute to sprawl, whether jobs will go to the local population or whether labor will be in-sourced, and whether the economic development project utilizes existing vacant properties or will deplete additional natural resources.

In large part, development practitioners' and policymakers' lack of utilization of the triple bottom line concept is due to a lack of research on how the concept could be adapted from its original corporate focus to fit the needs of local governments. In order to rectify this, EDA solicits applications from qualified researchers to develop and disseminate metrics for assessing the economic, social, and environmental impacts of development efforts on a regional economy.

Proposed Study: EDA makes grant investments that support and foster economic development in distressed regions. Currently, EDA's primary measure for assessing potential investments focuses on economic outcomes (e.g., the amount of private investment leveraged and the number of jobs created and retained). For reporting to stakeholders, EDA employs forecasts of these performance measures in its competitive grant selection process and post-award administration. EDA seeks to broaden its perspective using a more comprehensive, triple bottom line, approach. The study is intended to provide the tools to implement this approach.

EDA solicits competitive applications from organizations or consortia that will build on the existing body of research and experience related to the triple bottom line concept to identify, develop, and disseminate appropriate metrics for practitioners and policymakers to utilize to assess the broad array of impacts that economic development efforts have in their regions. EDA solicits applications from qualified researchers to accomplish the project tasks and scope of work described in paragraphs (a)-(f) below:

a. Provide a literature review outlining key research.

In preparing their applications, applicants are encouraged to examine how economic development efforts at the national, State/regional, and local levels have used the triple bottom line concept, challenges that have been encountered, and how these challenges have been overcome. Applicants should, where possible, examine international scenarios where the triple bottom line concept has been implemented to evaluate public development efforts.

The successful applicant will be required to conduct a literature review on relevant work from academic and policy fields. The literature review should be provided to EDA as a PDF document that can be made available on EDA's Web site at http://www.eda.gov. The document must include a short narrative outlining salient points of the research, the implications of this work, and a bibliographic listing of writings, articles and books reviewed.

b. Assess how the triple bottom line concept is currently being employed by policymakers and practitioners and identify best practices.

The successful applicant will be required to solicit input through surveys or focus groups from practitioners and policymakers on how they currently utilize the triple bottom line concept, and provide a summary of the information obtained to EDA in a format that can be made available on EDA's Web site at http://www.eda.gov.

The successful applicant should ascertain organizations both at local and at State/Federal levels that are currently using triple bottom line efforts to assess economic development impacts, and determine the method that will be used to assess best practices for implementing the triple bottom line concept. Applicants should propose a method to collect input from a diverse range of policymakers and practitioners and develop a broad spectrum of rural and urban best practices. EDA will work with the successful applicant to finalize the method for soliciting input and identifying and communicating best practices, as part of this phase of the project.

c. Identify variables and data sources.

The successful applicant is to identify the variables and data sources that will be used to determine the triple bottom line of economic development efforts. The applicant must consider the variety of types of economic development efforts, and as appropriate, distinguish the variables and data sources that would be needed to assess the triple bottom line of different types of projects.

In preparing an application, the applicant should consider whether variables for policymakers interested in determining the triple bottom line of a publicly funded initiative would be the same as those considered by local practitioners. If different variables are identified for the practitioner and policymaker groups, the applicant should specify why and how the variation will serve the needs of each group.

There is a growing body of work that describes ways to assess environmental impacts, social inclusion, and economic events. Examples of resources focused on one or more of these areas include: Ecological Footprint, eco-labels, and the United Nations International Council for Local Environmental Initiative's approach to triple bottom line using the ecoBudget metric. The International Organization for Standardization (ISO) has several accredited standards useful for measuring greenhouse gas emissions. There are a range of Federal data sources, including the Census Bureau, Bureau of Labor Statistics, and Bureau of Economic Analysis, which offer information on economic and social variables. Applications under this competitive solicitation should reflect a familiarity with the data and body of work referenced above, as well as the appropriate academic literature. EDA will work with the successful applicant to identify the universe of variables and data sources as part of this phase of the awarded cooperative agreement.

d. Create a triple bottom line index for policymakers and practitioners.

The successful applicant will be expected to create an index that policymakers and practitioners can easily utilize to determine the triple bottom line of a particular economic development activity. The index should identify core variables and data sources in each of the three categories: social, environmental and economic. The successful applicant will be required to construct this index from publicly available data, where possible, to ensure that information can be accessible to the broadest array of stakeholders.

EDA will work with the successful applicant to consider implications of various variables as the index is constructed to ensure as unbiased a construction as possible. Information on the variables selected and data sources is to be submitted to EDA in a format that can be made available on EDA's Web site.

e. Create an interactive Web-based tool.

As they are designing their proposals, applicants should refer to how the EDA-funded Innovation Index, created by the Indiana Business Research Center, makes data available in an easy-to-use format. The Innovation Index may be accessed at http://www.statsamerica.org/innovation/index.html. In their application submissions, applicants are encouraged to outline the structure, template, and unique features of the Web tool that would be created as part of an award made under this competitive solicitation.

To display the index of triple bottom line metrics, the successful applicant will be required to create and implement an interactive web-based display tool with search capability for determining the triple bottom line of economic development efforts, which can be housed on or linked to EDA's Web site at http://www.eda.gov. The successful applicant must ensure that the index can be calculated for user-defined regions through the web-based tool.

f. Produce a final report.

The successful applicant will produce a final report that highlights the major findings of this research, provides policy recommendations, and offers lessons learned on how both policymakers and local practitioners can create and implement triple bottom line metrics to more effectively evaluate the true impact of economic development efforts. The report shall be posted on EDA's Web site.

Any information disseminated to the public under this announcement is subject to the Information Quality Act (Pub. L. 106-554). For this reason, the successful applicant is required to comply with the Information Quality Guidelines issued by EDA pursuant to the Information Quality Act, which are designed to ensure and maximize the quality, objectivity, utility, and integrity of information disseminated by EDA. These guidelines can be found on EDA's Web site at http://www.eda.gov.

Electronic Access: The FFO announcement for the FY 2010 Triple Bottom Line Accounting competition is available at http://www.grants.gov and at http://www.eda.gov/InvestmentsGrants/FFON.xml.

Funding Availability: Funding appropriated under the Consolidated Appropriations Act, 2010 (Pub. L. 111-117, 123 Stat. 3034 at 3114 (2009)) is available for the economic development assistance programs authorized by the Public Works and Economic Development Act of 1965, as amended (42 U.S.C. 3121 et seq.) (PWEDA), and for the Trade Adjustment Assistance for Firms Program under the Trade Act of 1974, as amended (19 U.S.C. 2341 et seq.). Funds in the amount of $255,000,000 have been appropriated for FY 2010 and shall remain available until expended.

For the Research and Evaluation program, EDA is allocating $1,500,000 in FY 2010. EDA anticipates that the award made under this competitive solicitation will involve a single-year project period and has allocated $500,000 for this purpose.

Statutory Authority: The authority for the Research and Evaluation program is section 207 of PWEDA (42 U.S.C. 3147). EDA's regulations, which will govern an award made under this notice and request for applications, are codified at 13 CFR chapter III. The regulations and PWEDA are accessible at http://www.eda.gov/InvestmentsGrants/Lawsreg.xml.

Catalog of Federal Domestic Assistance (CFDA) Number: 11.312, Economic Development—Research and Evaluation.

Applicant Eligibility: Pursuant to PWEDA, eligible applicants for and recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; and a public or private non-profit organization or association.

Anticipated Project Period: EDA anticipates a one-year project period, subject to the availability of funds, EDA policy, and satisfactory performance under the award. The applicant should ensure that its application and budget clearly specify how it will complete the scope of work, which consists of the tasks outlined above under “Proposed Study” and section I.B of the FFO announcement, compose the resulting report and web-based tool, and present the report and web-based tool to EDA senior management, within this timeframe. A typical research project period begins with an initial meeting between the recipient and EDA staff to discuss project scope and to ensure that all parties are in agreement as to project terms. After the initial meeting, the recipient generally submits a final work plan to EDA staff for review and approval. Since an award made under this competitive solicitation is envisioned as a cooperative agreement, EDA will have substantial involvement throughout the project period. Progress and financial reports, and project work will be submitted to EDA based on the dates agreed to during the initial meeting and as outlined in the award special terms and conditions.

Typically, the recipient submits a draft research report to EDA at least 90 days before the end of the project period for EDA's review. If the draft research report is approved, EDA will approve publication of a final research report, and the recipient will brief EDA senior management on research methods and report results.

Cost Sharing Requirement: Generally, the amount of the EDA grant may not exceed fifty percent of the total cost of the project. Projects may receive an additional amount that shall not exceed thirty percent, as determined by EDA, based on the relative needs of the region in which the project will be located. See section 204(a) of PWEDA (42 U.S.C. 3144) and 13 CFR 301.4(b)(1). The Assistant Secretary of Commerce for Economic Development has the discretion to establish a maximum EDA investment rate of up to one-hundred percent where the project: (i) Merits and is not otherwise feasible without an increase to the EDA investment rate; or (ii) will be of no or only incidental benefit to the recipient. See section 204(c)(3) of PWEDA (42 U.S.C. 3144) and 13 CFR 301.4(b)(4).

EDA will consider the nature of the contribution (cash or in-kind), the amount of any matching share funds, and fairly assess any in-kind contributions in evaluating the cost to the Government and the feasibility of the project budget (see the “Evaluation Criteria” section below). While cash contributions are preferred, in-kind contributions, fairly evaluated by EDA, may provide the non-Federal share of the total project cost. See section 204(b) of PWEDA (42 U.S.C. 3144) and section III.B of the FFO announcement for this request for applications. In-kind contributions, which may include assumptions of debt and contributions of space, equipment, and services, are eligible to be included as part of the non-Federal share of eligible project costs if they meet applicable Federal cost principles and uniform administrative requirements. Funds from other Federal financial assistance awards are considered matching share funds only if authorized by statute, which may be determined by EDA's reasonable interpretation of the statute. See 13 CFR 300.3. The applicant must show that the matching share is committed to the project for the entire project period, will be available as needed, and is not conditioned or encumbered in any way that precludes its use consistent with the requirements of EDA investment assistance. See 13 CFR 301.5.

Intergovernmental Review: Applications under the Research and Evaluation program are not subject to Executive Order 12372, “Intergovernmental Review of Federal Programs.”

Application Review and Award Notification Information: To apply for an award under this request for applications, an eligible applicant must submit a completed application to EDA before the closing date and time specified in the “DATES” section of this notice, and in the manner provided in section IV of the FFO announcement. Any application received or transmitted, as the case may be, after 5 p.m. Eastern Time on August 13, 2010, will not be considered for funding. Applications that do not include all items required or that exceed the page limitations set forth in section IV.C of the FFO announcement will be considered non-responsive and will not be considered by the review panel. This competition solicitation may be subject to an external review panel, in addition to a panel comprised of at least three EDA staff members (all of whom will be full-time Federal employees) that will be formed to review applications. If any review panel convened for this competition is comprised of non-Federal reviewers, each reviewer will rate and rank each application. The review panel's ratings and rankings will be presented to the Assistant Secretary, who is the Selecting Official, under this competitive solicitation. By September 15, 2010, EDA expects to notify the applicant selected for investment assistance under this notice.

Evaluation Criteria: Applications will be evaluated using the following criteria of approximate equal weight:

(1) Conformance with EDA's statutory and regulatory requirements, including the extent to which the proposed project satisfies the award requirements set out below and as provided in 13 CFR 306.2:

• Strengthens the capacity of local, State, or national organizations and institutions to undertake and promote effective economic development programs targeted to regions of distress;

• Benefits distressed regions; and

• Demonstrates innovative approaches to stimulate economic development in distressed regions.

(2) The degree to which an EDA investment will have strong organizational leadership, relevant project management experience, and a significant commitment of human resources talent to ensure the project's successful execution (see 13 CFR 301.8(b)).

(3) The ability of the applicant to successfully implement the proposed project (see 13 CFR 301.8).

(4) The feasibility of the budget presented.

(5) The cost to the Federal government.

(6) The inclusion of a plan to distribute the research and project data to development practitioners through a project Web site that can be accessed free of charge.

(7) The ability to complete key tasks within a timely manner.

(8) The inclusion of a solid plan for sustaining the project after close of the project period.

Under this competitive solicitation, EDA will consider applications submitted only by applicants with the current capacity to undertake research that advances innovation in economic development practice or theory, and that have the potential for impact on a regional or national scale. See section 3 of PWEDA (42 U.S.C. 3122) and 13 CFR 300.3 and 306.2.

Selection Factors: The Assistant Secretary, as the Selecting Official, expects to fund the highest ranking application submitted under this competitive solicitation. However, if EDA does not receive satisfactory applications, the Assistant Secretary may not make any selection. Depending on the quality of the applications received, the Assistant Secretary may select more than one application. Also, the Assistant Secretary may select an application out of rank order for the following reasons: (1) A determination that the selected application better meets the overall objectives of sections 2 and 207 of PWEDA (42 U.S.C. 3121 and 3147); (2) the applicant's performance under previous awards; or (3) the availability of funds.

The Department of Commerce Pre-Award Notification Requirements for Grants and Cooperative Agreements: Administrative and national policy requirements for all Department of Commerce awards are contained in the Department of Commerce Pre-Award Notification Requirements for Grants and Cooperative Agreements, published in the Federal Register on February 11, 2008 (73 FR 7696).

Paperwork Reduction Act: This request for applications contains collections of information subject to the requirements of the Paperwork Reduction Act (PRA). The Office of Management and Budget (OMB) has approved the use of Form ED-900 (Application for Investment Assistance) under control number 0610-0094. Forms SF-424 (Application for Federal Assistance); SF-424A (Budget Information—Non-Construction Programs; SF-424B (Assurances—Non-Construction Programs); SF-LLL (Disclosure of Lobbying Activities); and CD-346 (Applicant for Funding Assistance) are approved under OMB control numbers 4040-0004, 4040-0006, 4040-0007, 0348-0046, and 0605-0001, respectively. Notwithstanding any other provision of law, no person is required to respond to, nor shall any person be subject to a penalty for failure to comply with, a collection of information subject to the requirements of the PRA unless the collection of information displays a currently valid OMB control number.

Executive Order 12866: This notice has been determined to be not significant for purposes of Executive Order 12866.

Executive Order 13132: It has been determined that this notice does not contain “policies that have Federalism implications,” as that phrase is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and one has not been prepared.

Dated: June 25, 2010.
Brian P. McGowan,
Deputy Assistant Secretary of Commerce for Economic Development.

[FR Doc. 2010-16054 Filed 6-30-10; 8:45 am]

BILLING CODE 3510-24-P